LEGAL SERVICES CORPORATION

Sunshine Act Meeting of the Board of Directors

Time and Date: The Legal Services Corporation Board of Directors will meet on August 18, 2008 via conference call. The meeting will begin at 3:30 p.m. EDT and continue until conclusion of the Board's agenda.

Location: 3333 K Street, NW., Washington, DC 20007, 3rd Floor Conference Center.

Status of Meeting: Open. Directors will participate by telephone conference in such a manner as to enable interested members of the public to hear and identify all persons participating in the meeting. Members of the public wishing to observe the meeting may do so by joining participating staff at the location indicated above. Members of the public wishing to listen to the meeting by telephone should call 1-888-390-3110 and enter 10850 on the key pad when prompted. To enhance the quality of your listening experience, as well as that of others, and to eliminate background noises that interfere with the audio recording of the proceeding, please mute your telephone during the meeting.

Matters to be Considered:

1. Consider and act on adoption of agenda

2. Consider and act on whether to authorize the transfer or reprogramming of LSC's FY 2008 Loan Repayment Assistance Program (LRAP) funds to LSC's FY 2009 Management and Administration budget ¹

¹ The Board of Directors welcomes public comment on Management's proposal, which will be available to for public inspection at http://www.lsc.gov/foia2/foia_eprr.php as of 10 a.m. (EDT) on Wednesday, August 13, 2008.

a. Staff Report

b. Public Comment

3. Consider and act on other business

4. Consider and act on motion to adjourn the meeting

Contact Person for Information: Patricia Batie, Manager of Board Operations, at (202) 295-1500.

Special Needs: Upon request, meeting notices will be made available in alternate formats to accommodate visual and hearing impairments. Individuals who have a disability and need an accommodation to attend the meeting may notify Patricia Batie at (202) 295-1500.

Dated: August 11, 2008.
Victor M. Fortuno,
Vice President & General Counsel.

[FR Doc. E8-18866 Filed 8-12-08; 11:15 am]

BILLING CODE 7050-01-P